NUCLEAR REGULATORY COMMISSION

[NRC-2017-0001]

Sunshine Act Meeting Notice

Date: Weeks of June 19, 26, July 3, 10, 17, 24, 2017.

Place: Commissioners' Conference Room, 11555 Rockville Pike, Rockville, Maryland.

Status: Public and Closed.

Week of June 19, 2017

Thursday, June 22, 2017

2:00 p.m. Briefing on Human Capital and Equal Employment Opportunity (Public Meeting) (Contact: Tanya Parwani-Jaimes: 301-287-0730)

This meeting will be webcast live at the Web address— http://www.nrc.gov/.

Week of June 26, 2017—Tentative

There are no meetings scheduled for the week of June 26, 2017.

Week of July 3, 2017—Tentative

There are no meetings scheduled for the week of July 3, 2017.

Week of July 10, 2017—Tentative

There are no meetings scheduled for the week of July 10, 2017.

Week of July 17, 2017—Tentative

There are no meetings scheduled for the week of July 17, 2017.

Week of July 24, 2017—Tentative

There are no meetings scheduled for the week of July 24, 2017.

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g., braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: June 16, 2017.
Denise L. McGovern,
Policy Coordinator, Office of the Secretary.

[FR Doc. 2017-12931 Filed 6-16-17; 4:15 pm]

BILLING CODE 7590-01-P